DEPARTMENT OF ENERGY

Federal Energy Regulatory Commission

[Docket No. CP09-83-000]

Dominion Transmission, Inc.; Notice of Availability of the Environmental Assessment for the Proposed Dominion Hub II Project

July 31, 2009.

The staff of the Federal Energy Regulatory Commission (FERC or Commission) has prepared an environmental assessment (EA) on the natural gas facilities proposed by Dominion Transmission, Inc. (DTI) in the above-referenced docket.

The EA was prepared to satisfy the requirements of the National Environmental Policy Act of 1969. The staff concludes that approval of the proposed project, with appropriate mitigating measures, would not constitute a major federal action significantly affecting the quality of the human environment.

The EA assesses the potential environmental effects of the construction and operation of the proposed Dominion Hub II Project. DTI's proposal would abandon in-place one of three existing 5,800-horsepower (hp) compressor units and install one 10,310-hp natural gas-driven compressor unit as its replacement at the Borger Compressor Station in Tompkins County, New York. The project is the result of an agreement between DTI and the New York State Department of Environmental Control in which DTI agreed to install a new compressor with lower nitrogen oxide emissions.

The EA has been placed in the public files of the FERC. A limited number of copies of the EA are available for distribution and public inspection at: Federal Energy Regulatory Commission, Public Reference Room, 888 First Street, NE., Room 2A, Washington, DC 20426.

Copies of the EA have been mailed to federal and state agencies; elected officials; newspapers and libraries in the project area; parties to this proceeding; and those who have expressed an interest in this project by returning the Mailing List Form attached to the May 1, 2009 Notice of Intent to Prepare an Environmental Assessment for the Proposed Dominion Hub II Project and Request for Comments on Environmental Issues.

Any person wishing to comment on the EA may do so. To ensure consideration prior to a Commission decision on the proposal, it is important that we receive your comments as specified below. Please carefully follow these instructions below to ensure that your comments are received in time and properly recorded.

You can make a difference by providing us with your specific comments or concerns about the Dominion Hub II Project. Your comments should focus on the potential environmental effects, reasonable alternatives, and measures to avoid or lessen environmental impacts. The more specific your comments, the more useful they will be. To ensure that your comments are timely and properly recorded, please send in your comments so that they will be received in Washington, DC on or before August 31, 2009.

For your convenience, there are three methods in which you can use to submit your comments to the Commission. In all instances please reference the project docket number CP09-83-000 with your submission. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First Street, NE., Room 1A, Washington, DC 20426.

Label one copy of the comments for the attention of the Gas Branch 1, PJ-11.1.

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decisions.

¹ Interventions may also be filed electronically via the Internet in lieu of paper. See the previous discussion of filing comments electronically.

Affected landowners and parties with environmental concerns may be granted intervenor status upon showing good cause by stating that they have a clear and direct interest in this proceeding which would not be adequately represented by any other parties. You do not need intervenor status to have your comments considered.

Additional information about the project is available from the Commission's Office of External Affairs at 1-866-208-FERC or on the FERC Internet Web site (http://www.ferc.gov) using the eLibrary link. Click on the eLibrary link, then on “General Search” and enter the docket number excluding the last three digits in the docket number field (i.e., CP09-83). Be sure you have selected an appropriate date range. For assistance, please contact FERC Online Support at FercOnlineSupport@ferc.gov or toll free at 1-866-208-3676, or for TTY, contact (202) 502-8659. The eLibrary link on the FERC Internet Web site also provides access to the texts of formal documents issued by the Commission, such as orders, notices, and rulemakings.

In addition, the Commission offers a free service called eSubscription which allows you to keep track of all formal issuances and submittals in specific dockets. This can reduce the amount of time you spend researching proceedings by automatically providing you with notifications of these filings, document summaries and direct links to the documents. Go to http://www.ferc.gov/esubscribenow.htm.

Nathaniel J. Davis, Sr.,
Deputy Secretary.

[FR Doc. E9-18912 Filed 8-6-09; 8:45 am]

BILLING CODE 6717-01-P